DEPARTMENT OF AGRICULTURE

Submission for OMB Review; Comment Request

August 4, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical or other technological collection techniques or other forms of information technology.

Comments regarding this information collection received by September 8, 2014 will be considered. Written comments should be addressed to: Desk Officer for Agriculture, Office of Information and Regulatory Affairs, Office of Management and Budget (OMB), New Executive Office Building, 725—17th Street NW., Washington, DC, 20503. Commenters are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: 2014 Census of Horticultural Specialties.

OMB Control Number: 0535-0236.

Summary of Collection: The census of horticultural specialties is one of a series of census special studies for the Census of Agriculture which provides more detailed statistics relating to a specific subject. The census of horticultural specialties is an integral part of the 2012 Census of Agriculture and is authorized by the Food, Conservation, and Energy Act of 2008 (Title X—Horticulture and Organic Agriculture). Since 1950 the Census of Horticultural Specialties has been conducted approximately every 10 years to show how the industry has changed over time. It was last conducted in 2009 for the reference period of 2008. Growing data needs to make policy decisions concerning the horticulture industry have prompted a request from the Secretary of Agriculture and Congress for a 2014 Census of Horticulture. Horticultural crops are high value crops which farmers could grow to diversify their farming operations. Using data from the 2012 Census of Agriculture, NASS will collect information from every respondent who reported production and sales of $10,000 or more of horticultural specialty crops. In addition NASS also plans to contact all new operations that have begun producing horticultural specialty products since the completion of the 2012 Census of Agriculture.

Need and Use of the Information: NASS will collect information on the number and value of plants grown and sold, the value of land, buildings, machinery and equipment, selected production expenses, irrigation, marketing channels, hired labor, area used for production, and type of structure. Horticulture is one of the fastest growing segments in the agriculture sector. The primary objective of the horticultural specialties census is to obtain a comprehensive and detailed picture of the horticultural sector of the economy. Without the census of horticultural specialties, government policy makers and planners would lack valuable information needed to accomplish their missions.

This is a reinstatement with change, of the Census of Horticultural Specialties survey to be conducted as a follow-on survey to the 2012 Census of Agriculture.

Description of Respondents: Farms; Business or other for-profit.

Number of Respondents: 41,000.

Frequency of Responses: Reporting: One time.

Total Burden Hours: 52,933.

Charlene Parker,
Departmental Information Collection Clearance Officer.

[FR Doc. 2014-18729 Filed 8-7-14; 8:45 am]

BILLING CODE 3410-20-P